DEPARTMENT OF DEFENSE

GENERAL SERVICES ADMINISTRATION

NATIONAL AERONAUTICS AND SPACE ADMINISTRATION

[OMB Control No. 9000-00XX; Docket No. 2015-0055; Sequence 49]

Information Collection; Payment to Small Business Subcontractors

AGENCY: Department of Defense (DoD), General Services Administration (GSA), and National Aeronautics and Space Administration (NASA).

ACTION: Withdrawal of notice.

SUMMARY: The notice, OMB Control No. 9000-00XX, Payment to Small Business Subcontractors, published in the Federal Register, is being withdrawn and is no longer accepting comments.

DATES: Effective: October 28, 2015.

FOR FURTHER INFORMATION CONTACT: Mr. Curtis E. Glover, Sr., Procurement Analyst, GSA, at 202-501-1448, or via email to curtis.glover@gsa.gov.

SUPPLEMENTARY INFORMATION:

A. Purpose

The notice, published in the Federal Register at 80 FR 60383, on October 6, 2015, requesting comments regarding a new information collection, 9000-00XX; Payment to Small Business Subcontractors, is being withdrawn. The notice is being withdrawn because it is associated with a rule which is still in process, and has not been published. Comments are no longer being sought at this time; however, the public will have a chance to comment once the rule is published.

Edward Loeb,
Acting Director, Federal Acquisition Policy Division, Office of Governmentwide Acquisition Policy, Office of Acquisition Policy, Office of Governmentwide Policy.

[FR Doc. 2015-27432 Filed 10-27-15; 8:45 am]

BILLING CODE 6820-EP-P